DEPARTMENT OF ENERGY

Federal Energy Regulatory Commission

[Docket No. AD25-7-000]

Meeting the Challenge of Resource Adequacy in Regional Transmission Organization and Independent System Operator Regions; Notice of Commissioner-Led Technical Conference

Take notice that the Federal Energy Regulatory Commission (Commission) will convene a Commissioner-led technical conference in the above-referenced proceeding. The purpose of this technical conference is to discuss generic issues related to resource adequacy constructs, including the roles of capacity markets in the Regional Transmission Organization (RTO)/Independent System Operator (ISO) regions that utilize them and alternative constructs in regions without capacity markets. The Commission does not intend to discuss at this technical conference any specific proceeding pending before the Commission.

Broadly, issues to be explored at the technical conference may include: current and impending risks to resource adequacy, including increasing load forecasts, potential resource shortfalls and reasons therefor; the efficiency and effectiveness of capacity markets in achieving resource adequacy at just and reasonable rates; design and performance comparisons between capacity markets and alternative resource adequacy constructs; and the roles and interests of states or other entities with legal authority in achieving resource adequacy.

The two-day technical conference will convene on Wednesday, June 4, 2025, and Thursday, June 5, 2025 in the Kevin J. McIntyre Commission Meeting Room at the Federal Energy Regulatory Commission, 888 First Street NE, Washington, DC 20426.

Individuals interested in participating as panelists should submit a self-nomination email by 5:00 p.m. Eastern Time on Wednesday March 12, 2025, to Resource-Adequacy-RTOs-Conference@ferc.gov. Each nomination should state the proposed panelist's name, contact information, organizational affiliation, and indicate the general area on which the proposed panelist would like to speak.

The technical conference will be open to the public. Advance registration is not required, and there is no fee for attendance. A supplemental notice will be issued prior to the conference with further details regarding the agenda and any changes in logistics. Information will also be posted on the Calendar of Events on the Commission's website, www.ferc.gov, prior to the event.

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

For more information about this technical conference, please contact Tim Bialecki at timothy.bialecki@ferc.gov or 202-502-8403. For legal information, please contact Nathan Lobel at nathan.lobel@ferc.gov or 202-502-8456. For information related to logistics, please contact Sarah McKinley at sarah.mckinley@ferc.gov or 202-502-8368.

Dated: February 20, 2025.
Debbie-Anne A. Reese,
Secretary.

[FR Doc. 2025-03130 Filed 2-25-25; 8:45 am]

BILLING CODE 6717-01-P